DEPARTMENT OF COMMERCE

International Trade Administration

[A-588-878]

Glycine From Japan: Final Results of the Antidumping Administrative Review; 2018-2020; Correction

AGENCY: Enforcement and Compliance, International Trade Administration, Department of Commerce.

ACTION: Notice; correction.

SUMMARY: The Department of Commerce (Commerce) published notice in the Federal Register of September 29, 2021, of the final results of the 2018-2020 administrative review of the antidumping duty order on glycine from Japan. This notice reflected an incorrect final weighted-average dumping margin for Yuki Gosei Kogyo Co., Ltd./Nagase & Co., Ltd. (YGK/Nagase) and an incorrect citation to the published preliminary results Federal Register notice.

FOR FURTHER INFORMATION CONTACT: John Drury or James Hepburn, AD/CVD Operations, Office VI, Enforcement and Compliance, International Trade Administration, U.S. Department of Commerce, 1401 Constitution Avenue NW, Washington, DC 20230; telephone: (202) 482-0195 and (202) 482-1882, respectively.

SUPPLEMENTARY INFORMATION:

Correction

In the Federal Register of September 29, 2021, in FR Doc 2021-21074, on page 53946, in the second column under the section titled, “Final Results of the Review,” correct the weighted-average dumping margin for YGK/Nagase from 27.21 to 27.71. In the first column, in footnote 1 (citing the Preliminary Results ¹), change the citation to “Glycine from Japan: Preliminary Results of the Antidumping Administrative Review; 2018-2020, 86 FR 36105 (July 8, 2021).”

¹ See Glycine from Japan: Preliminary Results of the Antidumping Administrative Review; 2018-2020, 86 FR 36105 (July 8, 2021) (Preliminary Results).

Background

On September 29, 2021, Commerce published in the Federal Register the final results of the administrative review of the antidumping duty order on glycine from Japan for the period of review, October 31, 2018, through May 31, 2020.² In the Final Results, we incorrectly stated that the final weighted-average dumping margin for YGK/Nagase was 27.21 percent. The correct final weighted-average dumping margin for YGK/Nagase is 27.71 percent.³ The Final Results also included an incorrect citation to the Preliminary Results.⁴ The correct citation to the Preliminary Results is “Glycine from Japan: Preliminary Results of the Antidumping Administrative Review; 2018-2020, 86 FR 36105 (July 8, 2021).” This notice serves to correct the final weighted-average dumping margin listed in the Final Results for YGK/Nagase from 27.21 percent to 27.71 percent and to correct the citation to the Preliminary Results. No other changes have been made to the Final Results.

² See Glycine from Japan: Final Results of the Antidumping Administrative Review; 2018-2020, 86 FR 53946 (September 29, 2021) (Final Results).

³ See Memorandum, “Final Results Margin Calculations for Yuki Gosei Kogyo & Co., Ltd./Nagase & Co., Ltd.,” dated September 22, 2021, at Attachment 2 (“Margin Program Calculation Output”).

⁴ Id. at 53946, footnote 1.

Notification to Interested Parties

This notice is issued and published in accordance with sections 751(a)(1) and 777(i)(1) of the Tariff Act of 1930, as amended.

Dated: October 7, 2021.
Christian Marsh,
Acting Assistant Secretary for Enforcement and Compliance.

[FR Doc. 2021-22447 Filed 10-13-21; 8:45 am]

BILLING CODE 3510-DS-P